DEPARTMENT OF JUSTICE

Notice of Lodging of Consent Decree Under the Clean Water Act and Safe Drinking Water Act

Notice is hereby given that on November 21, 2011, a proposed Consent Decree (“proposed Decree”) in United States, et al. v. Town of Fort Gay, Civil Action No. 3:09-0855 was lodged with the United States District Court for the Southern District of West Virginia.

On September 21, 2009, the United States and the West Virginia Department of Environmental Protection and West Virginia Department of Health and Human Resources (collectively, “Plaintiffs”) filed a complaint against the Town of Fort Gay, West Virginia (“Defendant” or “Fort Gay”) for permanent injunctive relief and civil penalties under the Clean Water Act, 33 U.S.C. 1251-387; the Safe Drinking Water Act, 42 U.S.C. 300f-300j-26; the West Virginia Water Pollution Control Act, W.Va Code § 22-11-22; and Chapter 16, Article I, Section 9a of the West Virginia Code.

The proposed Decree requires Defendant to comply with certain permit requirements, to prepare and submit certain reports, to make capital improvements to the Fort Gay waste water collection and treatment system and drinking water treatment system (collectively, the “Facilities”), and to improve staffing at the Facilities. The proposed Decree appoints the County Commission of Wayne County, West Virginia as Receiver of the Facilities.

The Department of Justice will receive for a period of thirty (30) days from the date of this publication comments relating to the proposed Decree. Comments should be addressed to the Assistant Attorney General, Environment and Natural Resources Division, and either emailed to pubcomment-ees.enrd@USDOJ.gov or mailed to P.O. Box 7611, U.S. Department of Justice, Washington, DC 20044-7611, and should refer to United States, et al. v. Town of Fort Gay, D.J. Ref. 90-5-1-1-09447.

During the public comment period, the proposed Decree may be examined on the following Department of Justice Web site: http://www.usdoj.gov/enrd/Consent_Decrees.html. A copy of the proposed Decree may also be obtained by mail from the Consent Decree Library, P.O. Box 7611, U.S. Department of Justice, Washington, DC 20044-7611, or by faxing or emailing a request to Tonia Fleetwood: Tonia.Fleetwood@USDOJ.gov, fax no. (202) 514-0097, phone confirmation number: (202) 514-1547. In requesting a copy from the Consent Decree Library, please enclose a check in the amount of $20.75 (25 cents per page reproduction cost) payable to the U.S. Treasury or, if by email or fax, please forward a check in that amount to the Consent Decree Library at the stated address.

Robert Brook,
Assistant Section Chief, Environmental Enforcement Section, Environment and Natural Resources Division.

[FR Doc. 2011-30422 Filed 11-25-11; 8:45 am]

BILLING CODE 4410-15-P